POSTAL REGULATORY COMMISSION

[Docket No. RM2024-9; Order No. 7817]

RIN 3211-AA39

Service Performance Measurement Systems for Market Dominant Products

AGENCY: Postal Regulatory Commission.

ACTION: Notice.

SUMMARY: This document acknowledges that the Commission will be conducting one or more off-the-record technical conferences to attain information that the Commission requires to effectively review the Postal Service's Service Performance Measurement (SPM) system.

DATES: Technical Conference: January 15, 2025, at 11:00 a.m., Eastern Time, Virtual.

FOR FURTHER INFORMATION CONTACT: David A. Trissell, General Counsel, at 202-789-6820.

SUPPLEMENTARY INFORMATION: Docket No. RM2024-9 was initiated by the Commission to review the accuracy, reliability, and representativeness of the Postal Service's SPM system. SPM produces composite service performance results that are generated using several different data sources and data processing methods. The service performance results produced by SPM are an amalgamation of granular and siloed evaluations of performance for the individual segments of mail collection (First Mile), mail processing (Processing Duration), and mail delivery (Last Mile). Given recent changes in operations and mail mix, the Commission has concerns about the continued validity of the design and implementation of each of these three systems, as well as how the systems function collectively as a whole.

Commission Information Request No. 3 sought to obtain, inter alia, the programming code associated with SPM, as well as a real-world example of the relevant SPM calculations being performed. The Postal Service moved for reconsideration, arguing that providing the information requested would be burdensome, would raise security concerns, and might not be technically feasible. The Postal Service requested a technical conference to discuss these issues, which the Commission found good cause to grant.

By the Commission.
Jennie L. Jbara,
Primary Certifying Official.

[FR Doc. 2024-25326 Filed 10-30-24; 8:45 am]

BILLING CODE 7710-FW-P